ELECTION ASSISTANCE COMMISSION

Sunshine Act Meetings

AGENCY: U.S. Election Assistance Commission.

ACTION: Sunshine Act notice; Notice of public meeting agenda.

SUMMARY: Public Meeting: U.S. Election Assistance Commission

DATES: September 6, 2023, 1:00 p.m. EST

ADDRESSES: The Election Assistance Commission hearing room at 633 3rd St. NW, Washington, DC 20001. The meeting is open to the public and will be live streamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a public meeting on breaking down accessibility and language barriers to voting.

Agenda: The U.S. Election Assistance Commission (EAC) will host a public meeting to discuss areas such as accessibility for voters with disabilities as well as language accessibility. The meeting will also highlight the EAC's resources on these topics for voters and election officials, including best practices guides, new research, and a first-of-its-kind video training series.

The agenda includes panel discussions with representatives from the EAC, election administrators, and subject matter experts. Panelists will give remarks and respond to questions from the EAC Commissioners.

The full agenda will be posted in advance on the events page of the EAC website: https://www.eac.gov/events/2023/09/06/us-election-assistance-commission-public-meeting-september-6-2023.

Background: Through the Help America Vote Act of 2002 (HAVA), the EAC is tasked with maintaining a clearinghouse of election administration information. HAVA also ensures that all voters with disabilities have the right to mark, cast, and verify their ballots privately and independently. To fulfill this mission, the EAC provides best practices recommendations, training materials, and other resources for election officials. By enhancing the agency's work with voters with disabilities, those who are non-native English speakers, and the election officials who serve them, the EAC aims to improve accessibility and ensure an independent and private vote for all.

Status: This meeting will be open to the public.

Camden Kelliher,
Senior Associate Counsel, U.S. Election Assistance Commission.

[FR Doc. 2023-18057 Filed 8-17-23; 4:15 pm]

BILLING CODE 4810-71-P